DEPARTMENT OF JUSTICE

Notice of Lodging of Two Proposed Consent Decrees Under the Resource Conservation and Recovery Act

On September 30, 2015, the Department of Justice lodged two proposed Consent Decrees with two United States District Courts, the Middle District of Florida and the Eastern District of Louisiana, in lawsuits both entitled United States v. Mosaic Fertilizer, LLC, Civil Action No. 15-cv-02286 in the Middle District of Florida and Civil Action No. 15-cv-04889 in the Eastern District of Louisiana.

The United States filed these two lawsuits under the Resource Conservation and Recovery Act (RCRA). The United States' complaints name Mosaic Fertilizer, LLC, as defendant. Mosaic produces phosphorus-based fertilizer that is commonly applied to corn, wheat and other crops across the country. Sulfuric acid is used to extract phosphorus from mined rock, which produces large quantities of a solid material called phosphogypsum and wastewater that contains high levels of acid. Phosphogypsum is stored in large piles, tanks, ditches and ponds; the piles can reach 500 feet high and cover more than 600 acres, making them some of the largest manmade waste piles in the United States. The piles can also contain several billion gallons of highly acidic wastewater, which can threaten human health and cause severe environmental damage if it reaches groundwater or waterways.

The alleged violations in this case stem from storage and disposal of waste from the production of phosphoric and sulfuric acids, key components of fertilizers, at Mosaic's facilities in Bartow, Lithia, Mulberry and Riverview, Florida and St. James and Uncle Sam, Louisiana. Mosaic allegedly failed to properly treat, store and dispose of hazardous waste, and also allegedly failed to provide adequate financial assurance for closure of its facilities.

The complaints seek injunctive relief and civil penalties for violations of the RCRA statute and its implementing regulations that govern the identification, treatment, storage, and disposal of hazardous waste, at six Florida facilities and two facilities in Louisiana.

The two consent decrees require the defendant to perform substantial injunctive relief and to pay a $5 million civil penalty to the United States and $1.55 million to Louisiana and $1.45 million to Florida, who are state co-plaintiffs in these cases. EPA estimates that Mosaic will spend approximately $170 million on projects to ensure the proper treatment, storage, and disposal of more than 60 billion pounds of hazardous waste and reduce the environmental impact of its manufacturing and waste management programs. Mosaic also will establish a $630 million trust fund—which will be invested to grow until it reaches full funding of $1.8 billion—the cost to cover phosphygypsum stack closure, including the treatment of hazardous process wastewater, at four of its operating facilities, and long-term care of all of its Florida and Louisiana facilities. The Mosaic Company, Mosaic Fertilizer's parent company, will provide financial guarantees for this work, and the settlement also requires Mosaic Fertilizer to submit a $50 million letter of credit.

In addition, Mosaic will spend $2.2 million on two local environmental projects: A $1.2 million environmental project in Florida to mitigate and prevent certain potential environmental impacts associated with an orphaned industrial property located in Mulberry, Florida; and a $1 million project in Louisiana to fund studies regarding statewide water quality issues and the development of watershed nutrient management plans to be utilized by beef cattle, dairy and poultry producers.

The publication of this notice opens a period for public comment on the Consent Decrees. Comments should be addressed to the Assistant Attorney General, Environment and Natural Resources Division, and should refer to United States v. Mosaic Fertilizer, LLC, D.J. Ref. No. 90-7-1-08388. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decrees may be examined and downloaded at this Justice Department Web site: http://www.usdoj.gov/enrd/consent-decrees.

We will provide a paper copy of the Consent Decrees upon written request and payment of reproduction costs (25 cents per page). Please mail your request and payment to: Consent Decree Library, U.S. DOJ—ENRD, P.O. Box 7611, Washington, DC 20044-7611.

If you would like a copy of the Consent Decree lodged with the Middle District of Florida, please enclose a check or money order, payable to the United States Treasury, for $162.50 (or $20.50 for a paper copy without the exhibits). If you would like a copy of the Consent Decree lodged with the Eastern District of Louisiana, the cost is $124.50 (or $21.25 for a paper copy without the exhibits). If you would like a copy of both Consent Decrees, the cost is $287.00 (or $41.75 for paper copies without the exhibits).

Maureen M. Katz,
Assistant Section Chief, Environmental Enforcement Section, Environment and Natural Resources Division.

[FR Doc. 2015-25511 Filed 10-6-15; 8:45 am]

BILLING CODE 4410-15-P